DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA).

Title: Institutional Remittances to Foreign Countries.

OMB Control Number: 0608-0002.

Form Number(s): BE-40.

Type of Request: Regular submission.

Number of Respondents: 1,220.

Average Hours per Response: 1.5 hours quarterly for 103 respondents and 1.5 hours annually for 1,117 respondents.

Burden Hours: 2,294.

Needs and Uses: The Institutional Remittances to Foreign Countries Survey (Form BE-40) is used by The Bureau of Economic Analysis (BEA) for the compilation of the U.S. international transactions accounts (ITAs), which it publishes quarterly in news releases, on its Web site, and in its monthly journal, the Survey of Current Business. These accounts provide a statistical summary of all U.S. international transactions and, as such, are one of the major statistical products of BEA. In addition, they provide input into other U.S. economic measures and accounts, contributing particularly to the National Income and Product Accounts. The ITAs are used extensively by both government and private organizations for national and international economic policy formulation and for analytical purposes. The information collected in this survey is used to develop the “private remittances” portion of the ITAs.

The survey requests information from U.S. religious, charitable, educational, scientific, and similar organizations on transfers to foreign residents and organizations and their expenditures in foreign countries. The information is collected quarterly from organizations remitting $1 million or more each year, and annually for organizations remitting at least $100,000 but less than $1 million each year. Organizations with remittances of less than $100,000 in the year covered by the report are exempt from reporting. The survey is voluntary.

Without this information, an integral component of the ITAs would be omitted. No other Government agency collects comprehensive quarterly/annual data on institutional remittances to foreign countries.

Affected Public: Not-for-profit institutions.

Frequency: Quarterly.

Respondent's Obligation: Voluntary.

OMB Desk Officer: Paul Bugg, (202) 395-3093.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Paul Bugg, OMB Desk Officer, FAX number (202) 395-7245, or via the Internet at pbugg@omb.eop.gov.

Dated: August 20, 2010.
Glenna Mickelson,
Management Analyst, Office of the Chief Information Officer.

[FR Doc. 2010-21093 Filed 8-24-10; 8:45 am]

BILLING CODE 3510-06-P